DEPARTMENT OF ENERGY

Federal Energy Regulatory Commission

[Docket No. EL08-17-000]

Connecticut Municipal Electric Energy Cooperative, Richard Blumenthal, Attorney General for the State of Connecticut, Complainants, v. Milford Power Company, LLC, ISO New England Inc., Respondents; Notice of Complaint

December 6, 2007.

Take notice that on December 4, 2007, Connecticut Municipal Electric Energy Cooperative and Richard Blumenthal, Attorney General for the State of Connecticut (collectively, CMEEC/CTAG) filed a formal complaint against Milford Power Company, LLC (Milford) and ISO New England Inc. (ISO) pursuant to section 206 of the Federal Power Act, 16 U.S.C. 824(e), 825(e), and Rule 206 of the Rules of Practice and Procedure of the Federal Energy Regulatory Commission, 18 CFR 385.206, alleging that Milford was no longer eligible to receive a Reliability Must Rule (RMR) agreement, and that the RMR agreement between Milford and the ISO should be terminated immediately. CMEEC/CTAG seek consideration of the Complaint in accordance with the Commission's Fast Track procedures.

CMEEC/CTAG certify that copies of the complaint were served on the contacts for Milford and ISO, as well as on persons designated on the official service list in Milford Power Company, LLC, Docket No. ER05-163-000.

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. The Respondent's answer and all interventions, or protests must be filed on or before the comment date. The Respondent's answer, motions to intervene, and protests must be served on the Complainants.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the web site that enables subscribers to receive e-mail notification when a document is added to a subscribed docket(s). For assistance with any FERC Online service, please e-mail FERCOnlineSupport@ferc.gov, or call (866) 208-3676 (toll free). For TTY, call (202) 502-8659.

Comment Date: 5 p.m. Eastern Time on December 26, 2007.

Kimberly D. Bose,
Secretary.

[FR Doc. E7-24090 Filed 12-12-07; 8:45 am]

BILLING CODE 6717-01-P